DEPARTMENT OF ENERGY

Federal Energy Regulatory Commission

Combined Notice of Filings #1

Take notice that the Commission received the following exempt wholesale generator filings:

Docket Numbers: EG12-56-000.

Applicants: NRG Solar Alpine LLC.

Description: NRG Solar Alpine, LLC Notice of Self Certification of Exempt Wholesale Generator Status.

Filed Date: 4/12/12.

Accession Number: 20120412-5132.

Comments Due: 5 p.m. ET 5/3/12.

Take notice that the Commission received the following electric rate filings:

Docket Numbers: ER12-1526-000.

Applicants: Florida Power & Light Company.

Description: FPL and City of Blountstown, FL Service Agreement No. 310 for NITS to be effective 5/1/2012.

Filed Date: 4/12/12.

Accession Number: 20120412-5158.

Comments Due: 5 p.m. ET 5/3/12.

Docket Numbers: ER12-1527-000.

Applicants: ETC Endure Energy L.L.C.

Description: Normal Filing to be effective 2/29/2012.

Filed Date: 4/12/12.

Accession Number: 20120412-5197.

Comments Due: 5 p.m. ET 5/3/12.

Take notice that the Commission received the following electric securities filings:

Docket Numbers: ES12-33-000.

Applicants: Trans-Allegheny Interstate Line Company, FirstEnergy Service Company, Metropolitan Edison Company, Monongahela Power Company, Potomac Edison Company, West Penn Power Company, Pennsylvania Electric Company, Pennsylvania Power Company, Jersey Central Power & Light.

Description: FirstEnergy Applicants' Joint Application Under Section 204 of the Federal Power Act for Authorization to Issue Short-Term Debt Securities.

Filed Date: 4/11/12.

Accession Number: 20120411-5295.

Comments Due: 5 p.m. ET 5/2/12.

Take notice that the Commission received the following public utility holding company filings:

Docket Numbers: PH12-10-000.

Applicants: Exelon Corporation.

Description: Notice of Material Change in Facts of Exelon Corporation.

Filed Date: 4/11/12.

Accession Number: 20120411-5161.

Comments Due: 5 p.m. ET 5/2/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 13, 2012.
Nathaniel J. Davis, Sr.,
Deputy Secretary.

[FR Doc. 2012-9562 Filed 4-19-12; 8:45 am]

BILLING CODE 6717-01-P